DEPARTMENT OF HEALTH AND HUMAN SERVICES

Centers for Disease Control and Prevention

[60 Day-00-35]

Proposed Data Collections Submitted for Public Comment and Recommendations

In compliance with the requirement of section 3506(c)(2)(A) of the Paperwork Reduction Act of 1995, the Centers for Disease Control and Prevention is providing opportunity for public comment on proposed data collection projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Seleda Perryman, CDC Assistant Reports Clearance Officer, 1600 Clifton Road, MS-D24, Atlanta, GA 30333. Written comments should be received within 60 days of this notice.

Proposed Projects: A Research Program to Develop Optimal NIOSH Alerts for Occupational Safety and Health—New—The mission of the National Institute of Occupational Safety and Health (NIOSH) is to promote safety and health at work for all people through research and prevention. The Alert is one of the primary publications by which NIOSH communicates health and safety recommendations to at-risk workers. The Alert is mailed to workers affected by a particular health or safety hazard and contains information about the nature of the hazard, as well as recommendations for avoiding or controlling it. Despite the important role of the Alert in conveying health and safety information to workers, these publications have not been routinely pretested and evaluated for effectiveness. Therefore, the degree to which the NIOSH Alerts actually produce risk awareness, as well as comprehension, acceptance and use of the recommended health and safety measures, is unknown.

NIOSH proposes to apply recent theoretical advances in communication research to the development of NIOSH Alerts in order to ensure maximal effectiveness in conveying health and safety information to workers. The Elaboration Likelihood Model (ELM) is a communication theory that has received much empirical support. During the past year, an initial test (still in progress) was conducted to compare a standard Alert to an Alert with revised content and format based on the postulates of the ELM. Although this initial study will be informative, much additional research of this nature is necessary to gain an understanding of the communication variables that contribute to high levels of worker awareness, comprehension, acceptance, and use of safety recommendations.

According to the ELM, the greatest impact on long-term health/safety attitudes and behaviors should occur when workers are motivated and able to elaborate upon a message, and when a message contains strong arguments. Therefore, the current investigation aims to (1) examine variables that will increase level of message-related elaboration and (2) create messages that contain strong arguments. The effectiveness of the standard version of the Alert for Preventing Injuries and Deaths from Skid-Steer Loaders will be compared with revised versions of this Alert that incorporate variables known to increase message elaboration and strong arguments selected through pretesting. Specifically, the revised Alerts will use high imagery language to increase message elaboration. After the initial messages are developed, they will be pretested using a sample of 60 farmers and 60 West Virginia University Agricultural Sciences students. Following this pretesting phase, data will be gathered from: (1) 300 volunteer farmers who attend an on-site testing, (2) a national random sample of 300 farmers, and (3) 600 West Virginia University Agricultural Science students. In each of these cases, participants will be randomly assigned to receive either a standard or revised version of the Alert, and the effect of the different Alert formats on safety attitudes and behaviors will be assessed.

Data collected in this investigation should further our understanding of the variables that increase effectiveness in communicating health and safety information to workers. By continuing to systematically apply postulates of the ELM to the design of the Alerts, it should become possible to develop a standard communication template to use in future NIOSH publications.

Type of respondent | Number of respondents | Number of responses/respondent | Avg. burden/response (in hrs.) | Total (in hrs.)
Farmers (pretesting) | 60 | 1 | .5 | 30
Student (pretesting) | 60 | 1 | .5 | 30
Farmers | 300 | 1 | .333 | 100
Farmers | 300 | 2 | .333 | 200
Students | 600 | 1 | .5 | 300
Total | 1320 |  |  | 660

Charles W. Gollmar,
Acting Associate Director for Policy Planning and Evaluation, Centers for Disease Control and Prevention.

[FR Doc. 00-10736 Filed 4-28-00; 8:45 am]

BILLING CODE 4163-18-P